DEPARTMENT OF COMMERCE

International Trade Administration

[A-570-904]

Certain Activated Carbon From the People's Republic of China: Final Results of Antidumping Duty Administrative Review; 2011-2012

AGENCY: Enforcement and Compliance, formerly Import Administration, International Trade Administration, Department of Commerce.

SUMMARY: The Department of Commerce (“Department”) published its Preliminary Results of the fifth antidumping duty administrative review on certain activated carbon from the People's Republic of China (“PRC”) on May 8, 2013,¹ in which we gave interested parties an opportunity to comment on the Preliminary Results. Based upon our analysis of the comments and information received, we made changes to the margin calculations for these final results of the antidumping duty administrative review. The final weighted-average dumping margins are listed below in the “Final Results of the Reviews” section of this notice. The period of review (“POR”) is April 1, 2011, through March 31, 2012.

¹ See Certain Activated Carbon From the People's Republic of China: Preliminary Results of the Fourth Antidumping Duty Administrative Review; 2011-2012, 78 FR 26748 (May 8, 2013) (“Preliminary Results”).

DATES: Effective Date: November 26, 2013.

FOR FURTHER INFORMATION CONTACT: Bob Palmer or Emeka Chukwudebe, AD/CVD Operations, Office V, Enforcement and Compliance, International Trade Administration, U.S. Department of Commerce, 14th Street and Constitution Avenue NW., Washington, DC 20230; telephone: (202) 482-9068, or (202) 482-0219, respectively.

SUPPLEMENTARY INFORMATION:

Background

The Department published the Preliminary Results on May 8, 2012.² In accordance with 19 CFR 351.309(c)(1)(ii), we invited parties to comment on our Preliminary Results.³ On June 5, 2013, the Department fully extended the time limit for completion of the final results of this administrative review.⁴ On August 29, 2013, the Department extended the deadline for interested parties to submit case briefs and rebuttal briefs to September 5, 2013, and September 11, 2013, respectively. On September 5, 2013, Petitioners,⁵ Albemarle,⁶ Cherishmet,⁷ Calgon Tianjin,⁸ Huahui,⁹ and Jacobi ¹⁰ submitted case briefs.¹¹ On September 6, 2013, the Department extended the rebuttal brief deadline to September 13, 2013. On September 13, 2013, Petitioners, Albemarle, and Huahui submitted rebuttal briefs.¹²

² See id.

³ See id., 78 FR at 26749.

⁴ See Memorandum to Christian Marsh, Deputy Assistant Secretary, Antidumping and Countervailing Duty Operations, through James Doyle, Office Director, Office 9, Antidumping and Countervailing Duty Operations, from Bob Palmer, International Trade Compliance Analyst, Office 9, Antidumping and Countervailing Duty Operations: Certain Activated Carbon from the People's Republic of China: Extension of Deadline for Final Results of Antidumping Duty Administrative Review, dated June 5, 2013.

⁵ Calgon Carbon Corporation and Cabot Norit Americas Inc. (collectively, “Petitioners”).

⁶ Albemarle Corporation (“Albemarle”).

⁷ Beijing Pacific Activated Carbon Products Co., Ltd., Ningxia Guanghua Cherishmet Activated Carbon Co., Ltd., and Cherishmet Inc., (collectively, “Cherishmet”).

⁸ Calgon Carbon (Tianjin) Co., Ltd. (“Calgon Tianjin”).

⁹ Ningxia Huahui Activated Carbon Co., Ltd. (“Huahui”).

¹⁰ Jacobi Carbons AB and its affiliates, Tianjin Jacobi International Trading Co. Ltd., Jacobi Carbons Industry (Tianjin) Co., Ltd., and Jacobi Carbons, Inc. (collectively, “Jacobi”).

¹¹ Jacobi Carbons AB and its affiliates, Tianjin Jacobi International Trading Co. Ltd., Jacobi Carbons Industry (Tianjin) Co., Ltd., and Jacobi Carbons, Inc. (collectively, “Jacobi”). Carbon Activated Corporation, a U.S. importer domestic interested party, submitted a letter supporting respondents' case brief arguments.

¹² See Petitioners' Rebuttal Brief, dated September 13, 2013 and Albemarle/Huahui's Rebuttal Brief, dated September 13, 2013.

As explained in the memorandum from the Assistant Secretary for Enforcement and Compliance, the Department has exercised its discretion to toll deadlines for the duration of the closure of the Federal Government from October 1, through October 16, 2013.¹³ Therefore, all deadlines in this segment of the proceeding have been extended by 16 days. The revised deadline for the final results of this review is now November 20, 2013.

¹³ See Memorandum for the Record from Paul Piquado, Assistant Secretary for Enforcement and Compliance, “Deadlines Affected by the Shutdown of the Federal Government” (October 18, 2013).

Verification

Pursuant to 19 CFR 351.307(b)(iv), we conducted verification of Jacobi's section C questionnaire responses.¹⁴

¹⁴ See “Memorandum to the File through Catherine Bertrand, Program Manager, Office 9, from Emeka Chukwudebe, International Trade Analyst, Office 9, and Robert Palmer, Senior International Trade Analyst, Office 9, re: “Verification of the CEP Sales Response of Jacobi Carbons AB in the Antidumping Duty Administrative Review of Certain Activated Carbon from the People's Republic of China,” dated August 7, 2013.

Final Determination Not To Revoke Order in Part

In the Preliminarily Results, we announced our intention to not revoke the Order in part with respect to Jacobi under section 751 of the Tariff Act Of 1930, as amended (“the Act”), because we find that Jacobi has not satisfied the requirements of 19 CFR 351.222(b).¹⁵ We have received no further information following the issuance of the Preliminary Results that would warrant revocation of the order with regard to Jacobi. No parties have commented on our preliminary decision not to revoke the Order in part. Therefore, we will not revoke the Order with respect to Jacobi because they have not met the regulatory criteria for revocation set forth in 19 CFR 351.222(b).¹⁶

¹⁵ See Preliminary Results, 78 FR at 26749; see also Notice of Antidumping Duty Order: Certain Activated Carbon from the People's Republic of China, 72 FR 20988 (April 27, 2007) (“Order”).

¹⁶ The Department recently modified the section of its regulations concerning the revocation of antidumping and countervailing duty orders in whole or in part, but that modification does not apply to this administrative review. See Modification to Regulation Concerning the Revocation of Antidumping and Countervailing Duty Orders, 77 FR 29875 (May 21, 2012). Reference to 19 CFR 351.222(b) thus refers to the Department's regulations prior to the modification.

Scope of the Order

The merchandise subject to the Order is certain activated carbon.¹⁷ The products are currently classifiable under the Harmonized Tariff Schedule of the United States (“HTSUS”) subheading 3802.10.00. Although the HTSUS subheading is provided for convenience and customs purposes, the written description of the scope of the order remains dispositive.¹⁸

¹⁷ See Certain Activated Carbon from the People's Republic of China: Issues and Decision Memorandum for the Final Results of the Fifth Antidumping Duty Administrative Review,” (“Issues & Decision Memo”) dated concurrently with this notice for a complete description of the Scope of the Order.

¹⁸ See Order.

Analysis of Comments Received

All issues raised in the case and rebuttal briefs by parties are addressed in the Issues & Decision Memo. A list of the issues which parties raised is attached to this notice as an Appendix. The Issues & Decision Memo is a public document and is on file in the Central Records Unit (“CRU”), Room 7046 of the main Department of Commerce building, as well as electronically via Enforcement and Compliance's Antidumping and Countervailing Duty Centralized Electronic Service System (“IA ACCESS”). IA ACCESS is available to registered users at http://iaaccess.trade.gov and it is available to all parties in the CRU. In addition, a complete version of the Issues & Decision Memo can be accessed directly on the internet at http://trade.gov/enforcement. The signed Issues & Decision Memo and the electronic version of the Issues & Decision Memo are identical in content.

Changes Since the Preliminary Results

Based on our review of the record and comments received from interested parties regarding our Preliminary Results, we have made certain revisions to the margin calculations for Jacobi, Huahui, and the non-examined, separate rate respondents.¹⁹ Further, the Surrogate Values Memo ²⁰ contains descriptions of our changes to the surrogate values.

¹⁹ See Issues & Decision Memo and the company-specific analysis memoranda for further explanation regarding these changes.

²⁰ See Memorandum to the File, through Catherine Bertrand, Program Manager, Office V, from Emeka Chukwudebe, Case Analyst, Office V, Certain Activated Carbon from the People's Republic of China (“PRC”): Surrogate Values for the Final Results,” dated concurrently with this notice (“Surrogate Values Memo”).

Separate Rate Respondents

In our Preliminary Results, we determined that the following companies met the criteria for separate rate status: Jacobi, Huahui, Cherishmet; Datong Juqiang Activated Carbon Co., Ltd.; Datong Municipal Yunguang Activated Carbon Co., Ltd.; Jilin Bright Future Chemicals Company, Ltd.; Ningxia Mineral and Chemical Limited; Shanxi DMD Corporation; Shanxi Sincere Industrial Co., Ltd.; Shanxi Industry Technology Trading Co., Ltd.; Sinoacarbon International Trading Co., Ltd.; Tancarb Activated Carbon Co., Ltd.; Tangshan Solid Carbon Co., Ltd.; and Tianjin Maijin Industries Co., Ltd.²¹ We have received no comments or argument since the issuance of the Preliminary Results that provides a basis for reconsideration of these determinations. Therefore, the Department continues to find that the companies listed above meet the criteria for a separate rate.

²¹ See Preliminary Results, at 78 FR 26749.

Rate for Non-Examined Separate Rate Respondents

In the Preliminary Results,²² and consistent with the Department's practice,²³ we assigned the non-examined, separate rate companies a rate calculated using the ranged total sales quantities from the public version of the submissions from the individually-examined respondents with weighted-average dumping margins that are not zero or de minimis (i.e., less than 0.5 percent) ²⁴ from the public versions of their submissions.²⁵ No parties have comments on this methodology. For the final results, we continue to find this approach to be consistent with the intent of section 735(c)(5)(A) of the Act and our use of section 735(c)(5)(A) of the Act as guidance when we establish the rate for respondents not examined individually in an administrative review.²⁶

²² See id., and accompanying Decision Memorandum at 9.

²³ See Certain Frozen Warmwater Shrimp From the Socialist Republic of Vietnam: Final Results and Final Partial Rescission of Antidumping Duty Administrative Review, 76 FR 56158, 56160 (September 12, 2011) (“Vietnam Shrimp”); see also Galvanized Steel Wire From the People's Republic of China: Preliminary Determination of Sales at Less Than Fair Value and Postponement of Final Determination, 77 FR 68407, 68415 (November 4, 2011) (“Galvanized Wire LTFV”).

²⁴ See Jacobi's Response to the Department's Supplemental Section A Questionnaire (Public Version) dated October 31, 2012, at Exhibit 1; see also Huahui's Public Version of Exhibit A-1 for the Section A Response, dated August 13, 2012.

²⁵ See id.

²⁶ See Vietnam Shrimp, 76 FR at 56160; see also Galvanized Wire LTFV, 77 FR at 68415.

Because the calculated net U.S. sales values for the individually-examined respondents with weighted-average dumping margins that are not zero or de minimis are business-proprietary figures, we find that $0.16 U.S. Dollars/kilogram (“USD/kg”), which we calculated using the publicly available figures of U.S. sales quantities for these firms, is the best reasonable proxy for the weighted-average dumping margin based on the calculated U.S. sales quantities of these respondents.²⁷

²⁷ See “Memorandum to the File from Emeka Chukwudebe, Case Analyst, Office V, AD/CVD Operations, Re: Calculation of Separate Rate,” dated concurrently with this notice.

PRC-Wide Entity

In the Preliminary Results, the Department determined that those companies which did not demonstrate eligibility for a separate rate are properly considered part of the PRC-wide entity.²⁸ Since the Preliminary Results, we received no comments regarding these findings. Therefore, we continue to treat these entities as part of the PRC-wide entity.

²⁸ The PRC-Wide entity includes Datong Locomotive Coal & Chemicals Co., Ltd., Ningxia Lingzhou Foreign Trade Co., Ltd. and Shanxi Qixian Foreign Trade Corporation. See Preliminary Results, 78 FR at 26749.

Rate for the PRC-Wide Entity

The Department used the rate of 2.42 USD/kg in the most recently completed administrative review of this antidumping order for the PRC-wide entity.²⁹ Because nothing on the record of the instant review calls into question the reliability of this rate, we find it appropriate to continue to apply the rate of 2.42 USD/kg to the PRC-wide entity for these final results.³⁰

²⁹ See Certain Activated Carbon From the People's Republic of China: Final Results and Partial Rescission of Third Antidumping Duty Administrative Review, 76 FR 67142, 67145 (October 31, 2011).

³⁰ See Administrative Review of Certain Frozen Warmwater Shrimp From the People's Republic of China: Final Results and Partial Rescission of Antidumping Duty Administrative Review, 76 FR 51940, 51942 (August 19, 2011) (where the Department used the rate for the PRC-wide entity from the previous review).

Final Results of the Review

The weighted-average dumping margins for this POR are as follows:

Table 1—Summary of Interim Rule Impacts
Exporter | Weighted-average dumping margin (dollars per kilogram) ³¹
Jacobi Group ³² | $0.03
Ningxia Huahui Activated Carbon Co., Ltd. | 0.39
Calgon Carbon (Tianjin) Co., Ltd. | 0.16
Datong Juqiang Activated Carbon Co., Ltd. | 0.16
Datong Municipal Yunguang Activated Carbon Co., Ltd. | 0.16
Jilin Bright Future Chemicals Company, Ltd. | 0.16
Ningxia Guanghua Cherishmet Activated Carbon Co., Ltd.³³ | 0.16
Ningxia Mineral and Chemical Limited | 0.16
Shanxi DMD Corporation | 0.16
Shanxi Sincere Industrial Co., Ltd. | 0.16
Shanxi Industry Technology Trading Co., Ltd. | 0.16
Sinoacarbon International Trading Co., Ltd. | 0.16
Tancarb Activated Carbon Co., Ltd. | 0.16
Tangshan Solid Carbon Co., Ltd. | 0.16
Tianjin Maijin Industries Co., Ltd. | 0.16
PRC-Wide Entity ³⁴ | 2.42

³¹ In the second administrative review of this order, the Department determined that it would calculate per-unit assessment and cash deposit rates for all future reviews. See Certain Activated Carbon From the People's Republic of China: Final Results and Partial Rescission of Second Antidumping Duty Administrative Review, 75 FR 70208, 70211 (November 17, 2010).

³² In the third administrative review, the Department found Jacobi, Tianjin Jacobi International Trading Co. Ltd., and Jacobi Carbons Industry (Tianjin) (collectively, “Jacobi Group”) are a single entity and, because there were no changes to the facts which supported that decision, we continued to find these companies part of a single entity in the fourth administrative review. Because there have been no changes to the facts which supported that decision in the present review, we will assign this rate to the companies in the single entity. See Preliminary Results, and accompanying Decision Memorandum, at 16, at “Affiliation and Collapsing”; see also Certain Activated Carbon From the People's Republic of China: Final Results and Partial Rescission of Third Antidumping Duty Administrative Review, 76 FR 67142 (October 31, 2011) (“AR3 Carbon”); Certain Activated Carbon From the People's Republic of China; 2010-2011; Final Results of Antidumping Duty Administrative Review, 77 FR 67337, 67339 at footnote 22 (November 9, 2012) (“AR4 Carbon”).

³³ In the first administrative review, the Department found Beijing Pacific Activated Carbon Products Co., Ltd., Ningxia Guanghua Cherishmet Activated Carbon Co., Ltd., and Ningxia Guanghua Activated Carbon Co., Ltd. are a single entity and, because there were no changes to the facts which supported that decision, we continued to find these companies to be part of a single entity in the present review. Because there have been no changes to the facts which supported that decision in the present review, we will assign this rate to the companies in the single entity. See Certain Activated Carbon From the People's Republic of China: Notice of Preliminary Results of the Antidumping Duty Administrative Review and Extension of Time Limits for the Final Results, 74 FR 21317 (May 7, 2009), unchanged in First Administrative Review of Certain Activated Carbon from the People's Republic of China: Final Results of Antidumping Duty Administrative Review, 74 FR 57995 (November 10, 2009); AR4 Carbon, 77 FR at 67339 at footnote 23.

³⁴ The PRC-wide entity includes Datong Locomotive Coal & Chemicals Co., Ltd., Ningxia Lingzhou Foreign Trade Co., Ltd. and Shanxi Qixian Foreign Trade Corporation.

Assessment Rates

Pursuant to section 751(a)(2)(A) of the Act and 19 CFR 351.212(b), the Department will determine, and CBP shall assess, antidumping duties on all appropriate entries covered by this review. The Department intends to issue assessment instructions to CBP 15 days after the publication date of these final results of this review. In accordance with 19 CFR 351.212(b)(1), we are calculating importer- (or customer-) specific assessment rates for the merchandise subject to this review. As the Department stated in the most recent administrative review,³⁵ we will continue to direct CBP to assess importer-specific assessment rates based on the resulting per-unit (i.e., per-kilogram) rates by the weight in kilograms of each entry of the subject merchandise during the POR. Specifically, we calculated importer-specific duty assessment rates on a per-unit rate basis by dividing the total amount of dumping for each importer by the total sales quantity of subject merchandise sold to that importer during the POR. For any individually examined respondent whose weighted-average dumping margin is above de minimis (i.e., 0.50 percent), the Department will calculate importer-specific assessment rates on the basis of the ratio of the total amount of dumping calculated for the importer's examined sales and the total entered value of sales.³⁶ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

³⁵ See AR4 Carbon, 77 FR at 67339.

³⁶ See Antidumping Proceedings: Calculation of the Weighted-Average Dumping Margin and Assessment Rate in Certain Antidumping Proceedings: Final Modification, 77 FR 8101 (February 14, 2012) (“NME Antidumping Proceedings”).

The Department announced a refinement to its assessment practice in NME cases. Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate. For a full discussion of this practice, see NME Antidumping Proceedings.

Cash Deposit Requirements

The following cash deposit requirements will be effective upon publication of the final results of this administrative review for all shipments of the subject merchandise from the PRC entered, or withdrawn from warehouse, for consumption on or after the publication date, as provided by section 751(a)(2)(C) of the Act: (1) For Jacobi, Huahui and the non-examined, separate rate respondents, the cash deposit rate will be equal to their weighted-average dumping margins established in the final results of this review, except if the rate is zero or de minimis, then no cash deposit will be required; (2) for previously investigated or reviewed PRC and non-PRC exporters not listed above that have separate rates, the cash deposit rate will continue to be the exporter-specific rate published for the most recently completed segment of this proceeding; (3) for all PRC exporters of subject merchandise that have not been found to be entitled to a separate rate, the cash deposit rate will be the equal to the weighted-average dumping margin for the PRC-wide entity established in the final results of this review; and (4) for all non-PRC exporters of subject merchandise which have not received their own rate, the cash deposit rate will be the rate applicable to the PRC exporters that supplied that non-PRC exporter. These cash deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Notification Regarding Administrative Protective Order

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: November 20, 2013.
Paul Piquado,
Assistant Secretary for Enforcement and Compliance.

Appendix—Issues & Decision Memorandum

Comment 1: Whether Albemarle Corporation is a Domestic Interested Party

Comment 2: Use of an Alternative Comparison Method in Administrative Reviews

Comment 3: Withdrawal of the Targeted Dumping Regulation

Comment 4: Differential Pricing Analysis

Comment 5: Whether to Include Indonesian Imports in GTA Data

Comment 6: Carbonized Material Surrogate Value

Comment 7: Truck Freight

Comment 8: Hauhui's Carton Surrogate Value

Comment 9: Steam

Comment 10: Brokerage and Handling

A. Container Weight

B. Letter of Credit Fees

Comment 11: Water

Comment 12: Chemical Purity Adjustment

Comment 13: Adverse Facts Available for Certain Packing Factors

Comment 14: Calculation for Inland Freight and U.S. Credit Expenses

Comment 15: Accurate Liquidation Instructions

Comment 16: Huahui's FOPs for Powdered Activated Carbon

[FR Doc. 2013-28359 Filed 11-25-13; 8:45 am]

BILLING CODE 3510-DS-P